DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 18, 2001 (66 FR 65248-65249).

DATES: Comments must be submitted on or before April 5, 2002.

ADDRESSES: Send comments, within 30 days, to the Office of Information and Regulatory Affairs, Office of Management and Budget, 725—17th Street, NW., Washington, DC 20503, Attention NHTSA Desk Officer.

FOR FURTHER INFORMATION CONTACT: Alan Block at the National Highway Traffic Safety Administration, Office of Research and Traffic Records (NTS-31), 202-366-6401, 400 Seventh Street, SW., Room 6240, Washington, DC 20590.

SUPPLEMENTARY INFORMATION:

National Highway Traffic Safety Administration

Title: Buckle Up America Telephone Surveys 2002-2004.

OMB Number: 2127—New.

Type of Request: New information collection requirement.

Abstract: Buckle Up America is a Presidential initiative to increase seat belt use and child restraint use. As part of this initiative, two national mobilizations are conducted every year during May and November. The mobilizations are designed to increase seat belt use and child restraint use through education and enforcement of restraint laws. NHTSA proposes to conduct telephone surveys both before, and after, each mobilization during the next three years to help evaluate their impact.

Affected Public: Randomly selected members of the general public aged sixteen and older in telephone households.

Estimated Total Annual Burden: 9,133.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on February 28, 2002.
Delmas Maxwell Johnson,
Associate Administrator for Administration.

[FR Doc. 02-5339 Filed 3-5-02; 8:45 am]

BILLING CODE 4910-59-P